DEPARTMENT OF LABOR

Employment and Training Administration

Notice of a Change in Status of the Extended Benefit (EB) Program for Alaska, Connecticut, Kansas, Massachusetts, New Hampshire, Ohio, Oregon, South Carolina, and Washington

AGENCY: Employment and Training Administration, Labor.

ACTION: Notice.

SUMMARY: This notice announces a change in benefit period eligibility under the EB program for Alaska, Connecticut, Kansas, Massachusetts, New Hampshire, Ohio, Oregon, South Carolina, and Washington.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

SUPPLEMENTARY INFORMATION: The following changes have occurred since the publication of the last notice regarding the States' EB status:

• Based on the data released by the Bureau of Labor Statistics on November 20, 2020, the seasonally-adjusted total unemployment rate for Alaska, Connecticut, Ohio, Oregon and Washington fell below the 8.0% threshold necessary to remain “on” a high unemployment period in EB, and starting December 13, 2020, the maximum potential entitlement for claimants in these states in the EB program will decrease from 20 weeks to 13 weeks.

• Based on the data released by the Bureau of Labor Statistics on November 20, 2020, the seasonally-adjusted TUR for Kansas and South Carolina fell below the 6.5% threshold necessary to remain “on” in EB. The payable period in EB will end on December 12, 2020.

• It has been determined that Massachusetts' Unemployment Compensation law provides for the temporary adoption of the optional TUR trigger during periods of 100 percent Federal financing of EB, and Public Law 116-127 authorized 100 percent Federal funding through December 31, 2020. As such, based on data released by the Bureau of Labor Statistics on June 19, 2020, the seasonally-adjusted total unemployment rate for Massachusetts rose above the 8.0 percent threshold to trigger “on” to a high unemployment period in EB. Therefore a payable period for Massachusetts under the high unemployment period is retroactive to July 5, 2020, and eligibility for claimants has been extended from up to 13 weeks of potential duration to up to 20 weeks of potential duration in the EB program.

• Based on the data submitted by New Hampshire for the week ending November 14, 2020, New Hampshire's 13-week insured unemployment rate (IUR) was 4.77 percent, falling below the 5.00 percent threshold necessary to remain “on” EB. Therefore, the EB period for New Hampshire ends on December 5, 2020. The state will remain in an “off” period for a minimum of 13 weeks.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13 (c) (1)).

Persons who believe they may be entitled to EB, or who wish to inquire about their rights under the program, should contact their State Workforce Agency.

Signed in Washington, DC.
John Pallasch,
Assistant Secretary for Employment and Training.

[FR Doc. 2020-28793 Filed 12-29-20; 8:45 am]

BILLING CODE 4510-FW-P